DEPARTMENT OF ENERGY

Energy Efficiency and Renewable Energy

State Energy Advisory Board

AGENCY: Energy Efficiency and Renewable Energy, Department of Energy.

ACTION: Notice of open meeting.

SUMMARY: This notice announces an open meeting of the State Energy Advisory Board (STEAB). The Federal Advisory Committee Act (Pub. L. 92-463; 86 Stat. 770) requires that public notice of these meetings be announced in the Federal Register.

DATES: November 15-16, 2011 9 a.m.-5 p.m. November 17, 2011 9 a.m.-12 p.m.

ADDRESSES: Hilton Knoxville, 501 West Church Avenue, Knoxville, Tennessee 37902.

FOR FURTHER INFORMATION CONTACT: Gil Sperling, STEAB's Designated Federal Officer; U.S. Department of Energy, Office of Energy Efficiency and Renewable Energy, 1000 Independence Ave., SW., Washington DC 20585; phone: (202) 586-1644.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Receive updates and review accomplishments of STEAB's Sub-committee and Taskforces, meet with key members of Oak Ridge National Laboratory (ORNL) to discuss new initiatives and technologies and explore possible technology transfer programs, meet with Laboratory staff to gain a better understanding of deployment efforts, discuss ways to make sure states are successful with implementing ARRA in light of the March 2012 deadline, and update to the Board on routine business matters and other topics of interest.

Public Participation: The meeting is open to the public. Written statements may be filed with the Board either before or after the meeting. Members of the public who wish to make oral statements pertaining to agenda items should contact Gil Sperling at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 60 days on the STEAB Web site at http://www.steab.org.

Issued at Washington, DC, on August 29, 2011.
LaTanya Butler,
Acting Deputy Committee Management Officer.

[FR Doc. 2011-22539 Filed 9-1-11; 8:45 am]

BILLING CODE 6450-01-P